ENVIRONMENTAL PROTECTION AGENCY

[EPA-HQ-OA-2006-0172; FRL-8052-7]

Agency Information Collection Activities; Proposed Collection; Comment Request; Smart Growth and Active Aging National Recognition Program; EPA ICR No. 2221.01, OMB Control No. 2090-XXXX

AGENCY: Environmental Protection Agency (EPA).

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before June 2, 2006.

ADDRESSES: Submit your comments, identified by Docket ID No. EPA-HQ-OA-2006-0172, by one of the following methods:

• http://www.regulations.gov: Follow the on-line instructions for submitting comments.

• Email: oei.docket@epa.gov.

• Fax: 202-566-0224.

• Mail: Office of Environmental Information (OEI) Docket, Environmental Protection Agency, Mail Code: 2822T, 1200 Pennsylvania Ave., NW., Washington, DC 20460.

• Hand Delivery: Office of Environmental Information (OEI) Docket in the EPA Docket Center (EPA/DC), EPA West, Room B102, 1301 Constitution Ave., NW., Washington, DC. Such deliveries are only accepted during the Docket's normal hours of operation, and special arrangements should be made for deliveries of boxed information.

Instructions: Direct your comments to Docket ID No. EPA-HQ-OA-2006-0172. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The http://www.regulations.gov website is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Kathy Sykes, Aging Initiative, Office of Children's Health Protection, Room 2512 Ariel Rios North, Mail Code:1107A, Environmental Protection Agency, 1200 Pennsylvania Ave., NW, Washington, DC 20460; telephone number: 202-564-3651; fax number: 202-564-2733; e-mail address: sykes.kathy@epa.gov.

SUPPLEMENTARY INFORMATION:

How Can I Access the Docket and/or Submit Comments?

EPA has established a public docket for this ICR under Docket ID No. EPA-HQ-OA-2006-0172, which is available for online viewing at http://www.regulations.gov, or in person viewing at the Office of Environmental Information Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the Office of Environmental Information Docket is 202-566-1752.

Use http://www.regulations.gov to obtain a copy of the draft collection of information, submit or view public comments, access the index listing of the contents of the docket, and to access those documents in the public docket that are available electronically. Once in the system, select “search,” then key in the docket ID number identified in this document.

What Information Is EPA Particularly Interested In?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are communities, municipalities, and counties that choose to participate in the Recognition Program.

Title: Smart Growth and Active Aging National Recognition Program.

ICR numbers: EPA ICR No. 2221.01, OMB Control No. 2090-XXXX.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA's Initiative on Aging is planning to launch a Smart Growth and Active Aging National Recognition Program for communities, municipalities, tribes, and counties (collectively referred to as “communities”). Communities would submit a letter to EPA indicating that their State or local Area Agency on Aging is engaged in their smart growth planning activities and active aging programs, and complete an on-line questionnaire describing their processes and programs in these two areas. The purpose of the Program is to recognize communities that excel in promoting the health and well-being of older adults through smart growth and active aging and to raise public awareness of the interconnectedness and importance of these two areas to the aging population. In addition, the on-line questionnaire would include links to helpful information on the Internet. This would assist in educating communities on available resources to help them do better in the areas where they have not met the criteria for recognition. Finally, the Program would enable EPA to compile “lessons learned” from communities that have successfully implemented smart growth and active aging principles. EPA would use this information to create a learning network on its Web site where all communities could benefit from this experience.

The Recognition Program would be voluntary. EPA expects communities to participate only if they see a benefit by doing so. A primary benefit to communities would be recognition at the national level as leaders in smart growth and active aging. National recognition would promote their image as a desirable place to live. This could help them attract residents of all ages, which could benefit the communities (e.g., economically), as well as the new residents (e.g., because they could partake of their community's amenities, such as walkable neighborhoods, fitness trails, and more transportation choices). In addition, communities that participate but are not recognized under the Program (i.e., because they do not meet the criteria for recognition) would benefit by learning about their areas for improvement, finding ways to address these areas based on links to helpful resources on the Internet, and modifying their behavior as appropriate.

Burden Statement: The annual public reporting and recordkeeping burden for this collection of information is estimated to average one hour and 45 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total annual number of respondents on average: 110 communities.

Average frequency of response: Once.

Estimated total annual burden hours: 186 hours.

Estimated total annual cost: $8,284. This includes an estimated labor cost of $8,183, an estimated operation and maintenance cost of $101, and no capital cost.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: March 22, 2006.
William H. Sanders,
Acting Director, Office of Children's Health Protection and Environmental Education.

[FR Doc. E6-4765 Filed 3-31-06; 8:45 am]

BILLING CODE 6560-50-P